FEDERAL RESERVE SYSTEM

Formations of, Acquisitions by, and Mergers of Bank Holding Companies; Correction

This notice corrects a notice (FR Doc. 2010-7182) published on page 16123 of the issue for Wednesday, March 31, 2010.

Under the Federal Reserve Bank of New York heading, the entry for Morgan Stanley, New York, New York, is revised to read as follows:

A. Federal Reserve Bank of New York (Ivan Hurwitz, Bank Applications Officer) 33 Liberty Street, New York, New York 10045-0001:

1. Morgan Stanley, New York, New York; to acquire 100 percent of the voting shares of Morgan Stanley Private Bank, N.A., Jersey City, New Jersey, as a result of converting Morgan Stanley Trust into a national bank and thereby merging it with Morgan Stanley Bank, N.A., and renaming the surviving institution Morgan Stanley Private Bank, N.A., which will be relocated to Purchase, New York.

Comments on this application must be received by April 26, 2010.

Board of Governors of the Federal Reserve System, April 5, 2010.
Robert deV. Frierson,
Deputy Secretary of the Board.

[FR Doc. 2010-7980 Filed 4-7-10 8:45 am]

BILLING CODE 6210-01-S